DEPARTMENT OF AGRICULTURE

Office of the Secretary

Determination of Total Amounts of Fiscal Year 2010 Tariff-Rate Quotas for Raw Cane Sugar and Certain Sugars, Syrups and Molasses

AGENCY: Office of the Secretary, USDA.

ACTION: Notice.

SUMMARY: The Office of the Secretary of the U.S. Department of Agriculture is providing notice of the establishment of the Fiscal Year (FY 2010) in-quota aggregate quantity of the raw, as well as, refined and specialty sugar Tariff-Rate Quotas (TRQ) as required under the U.S. World Trade Organization (WTO) commitments. The FY 2010 raw cane sugar TRQ is established at 1,117,195 metric tons raw value (MTRV) that may be entered under subheading 1701.11.10 of the U.S. Harmonized Tariff Schedule (HTS) during FY 2010 (October 1, 2009-September 30, 2010). In addition in-quota aggregate quantity of the refined and specialty sugar TRQ is established at 90,039 MTRV for certain sugars, syrups, and molasses (collectively referred to as refined sugar) that may be entered under subheadings 1701.12.10, 1701.91.10, 1701.99.10, 1702.90.10, and 2106.90.44 of the HTS during FY 2010.

DATES: Effective Date: October 1, 2009.

FOR FURTHER INFORMATION CONTACT: Angel Gonzalez, Import Policies and Export Reporting Division, Foreign Agricultural Service, U.S. Department of Agriculture, 1400 Independence Avenue, SW., AgStop 1021, Washington, DC 20250-1021; by telephone (202) 720-2916; by fax (202) 720-0876; or by e-mail angel.f.gonzalez@fas.usda.gov.

SUPPLEMENTARY INFORMATION: The provisions of paragraph (a)(i) of the Additional U.S. Note 5, Chapter 17 in the HTS authorize the Secretary of Agriculture to establish the in-quota TRQ amounts (expressed in terms of raw value) for imports of raw cane sugar and certain sugars, syrups, and molasses that may be entered under the subheadings of the HTS subject to the lower tier of duties of the TRQs for entry during the fiscal year beginning October 1, 2009. The Office of the U.S. Trade Representative (USTR) is responsible for the allocation of these quantities among supplying countries and areas.

Section 359(k) of the Agricultural Adjustment Act of 1938, as amended requires that at the beginning of the quota year the Secretary of Agriculture establish the TRQ's for raw can sugar and refined sugars at the minimum levels necessary to comply with obligations under international trade agreements, with the exception of specialty sugar.

Notice is hereby given that I have determined, in accordance with paragraph (a)(i) of the Additional U.S. Note 5, Chapter 17 in the HTS and section 359(k) of the 1938 Act, that an aggregate quantity of up to 1,117,195 MTRV of raw cane sugar described in subheading 1701.11.10 of the HTS may be entered or withdrawn from warehouse for consumption during FY 2010 (October 1, 2009-September 30, 2010). This is the minimum amount to which the United States is committed under the WTO Uruguay Round Agreements. I have further determined that an aggregate quantity of 90,039 MTRV of sugars, syrups, and molasses described in subheadings 1701.12.10, 1701.91.10, 1701.99.10, 1702.90.10, and 2106.90.44 may be entered or withdrawn from warehouse for consumption during FY 2010. Of this quantity of 90,039 MTRV, the quantity of 69,695 MTRV is reserved for the importation of specialty sugars as defined by the USTR. This 90,039 MTRV quantity includes the 22,000 MTRV required WTO minimum amount of which 1,656 MTRV is reserved for specialty sugar.

The FY 2010 specialty sugar TRQ will be opened in five tranches. Because the specialty sugar TRQ is first-come, first-served, tranches are needed to allow for orderly marketing throughout the year. The first tranche, totaling 1,656 MTRV, will open October 1, 2009. All specialty sugars are eligible for entry under this tranche. The second tranche will open on November 10, 2009, and be equal to 25,000 MTRV. The remaining tranches will each be equal to 14,346 MTRV, with the third opening on January 12, 2010; the fourth, on May 17, 2010; and the fifth, on August 24, 2010. The second, third, fourth, and fifth tranches will be reserved for organic sugar and other specialty sugars not currently produced commercially in the United States or reasonably available from domestic sources.

Conversion factor: 1 metric ton = 1.10231125 short tons.

Signed at Washington, DC, the 23rd day of September 2009.
Thomas J. Vilsack,
Secretary of Agriculture.

[FR Doc. E9-23447 Filed 9-28-09; 8:45 am]

BILLING CODE 3410-10-P